DEPARTMENT OF AGRICULTURE

Commodity Credit Corporation

Farm Service Agency

[Docket ID FSA-2019-0013]

Information Collection Request; Application for Payment of Amounts Due Persons Who Have Died, Disappeared, or Have Been Declared Incompetent

AGENCY: Commodity Credit Corporation and Farm Service Agency, USDA.

ACTION: Notice; request for comments.

SUMMARY: In accordance with the Paperwork Reduction Act of 1995, the Commodity Credit Corporation (CCC) and the Farm Service Agency (FSA) are requesting comments from all interested individuals and organizations on a revision and an extension of a currently approved information collection. CCC and FSA use the information to determine whether representatives or survivors of a producer are entitled to receive payments earned by a producer who dies, disappears, or is declared incompetent before receiving payments or other disbursements.

DATES: We will consider comments that we receive by December 23, 2019.

ADDRESSES: We invite you to submit comments on this notice. In your comments, include date, volume, and page number of this issue of the Federal Register. You may submit comments by any of the following methods:

• Federal eRulemaking Portal: Go to http://regulations.gov. Go to http://www.regulations.gov and search for Docket ID FSA-2019-0013. Follow the online instructions for submitting comments.

• Mail: Joe Lewis Jr., Agricultural Program Specialist, USDA, FSA STOP 0572, 1400 Independence Avenue SW, Washington, DC 20250-0572.

You may also send comments to the Desk Officer for Agriculture, Office of Information and Regulatory Affairs, Office of Management and Budget, Washington, DC 20503. Copies of the information collection may be requested by contacting Joe Lewis Jr. at the above address.

FOR FURTHER INFORMATION CONTACT: Joe Lewis Jr, (202) 720-0795.

SUPPLEMENTARY INFORMATION: Description of Information Collection

Title: Application for Payment of Amounts Due Persons Who Have Died, Disappeared, or Have Been Declared Incompetent.

OMB Number: 0560-0226.

OMB Expiration Date of Approval: 02/29/2020.

Type of Request: Extension.

Abstract: Persons desiring to claim payments earned, but not yet paid to a person who has died, disappeared, or has been declared incompetent must complete form FSA-325, Application for Payment of Amounts Due Persons Who Have Died, Disappeared, or Have Been Declared Incompetent. This information required by form FSA-325 is used by FSA county office employees to document the relationship of heirs, beneficiaries, or others who claim that a payment was earned, but not yet paid to the person who died, disappeared, or who has been declared incompetent, and to determine the share and order of precedence for disbursing payments to such persons.

Information is obtained only when a person claims that they are due a payment that was earned, but not paid to a producer that has died, disappeared, or has been declared incompetent, and documentation is needed to determine if any individuals are entitled to receive such payments or disbursements.

The burden hours decreased by 2,000 hours since the last OMB approval. The reason for the decrease is due to the removal of travel times from the request. The respondents may submit applications by mail and many respondents go to the county offices to do regular and customary business with FSA for other FSA programs and can complete and submit the form FSA-325 during this time; this means no travel time is required specifically for the information collection and therefore, it is no longer included in the burden hour reporting.

For the following estimated total annual burden on respondents, the formula used to calculate the total burden hour is the estimated average time per responses multiplied by the estimated total annual responses.

Estimate of Annual Burden: Public reporting burden for this collection of information is estimated to average 0.50 hours per response.

Type of Respondents: Producers.

Estimated Number of Respondents: 2,000.

Estimated Annual Number of Responses per Respondent: 1.

Estimated Total Annual of Responses: 2,000.

Estimated Average Time per Responses: 0.50 hours.

Estimated Total Annual Burden on Respondents: 1,000.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including names and addresses when provided, will be summarized and included in the request for OMB approval. All comments will also become a matter of public record.

Robert Stephenson.
Executive Vice President, Commodity Credit Corporation.
Richard Fordyce,
Administrator, Farm Service Agency.

[FR Doc. 2019-23144 Filed 10-23-19; 8:45 am]

BILLING CODE 3410-05-P